COMMISSION OF FINE ARTS

Notice of Schedule of Meetings

Listed below is the schedule of meetings of the Old Georgetown Board for 2007. The Commission's office is located at the National Building Museum, Suite 312, Judiciary Square, 401 F Street, NW., Washington, DC, 20001-2728. The Old Georgetown Board meetings are held on the 1st Thursday of each month, excluding August. Items of discussion affecting he appearance of Georgetown in Washington, DC, may include buildings, parks and memorials.

Draft agendas and additional information regarding the Commission are available on our Web site: http://www.cfa.gov. Inquiries regarding the agenda and request to submit written or oral statements should be addressed to Thomas Luebke, Secretary, U.S. Commission of Fine Arts, at the above address or call 202-504-2200. Individuals requiring sign language interpretation for the hearing impaired should contact the Secretary at least 10 days before the meeting date.

Dated in Washington, DC, August 3, 2006.
Thomas Luebke,
Secretary.

Commission meetings | Submission deadlines
4 January | 14 December 2006
1 February | 11 January
1 March | 8 February
5 April | 15 March
3 May | 12 April
7 June | 17 May
5 July | 14 June
6 September | 16 August
4 October | 13 September
1 November | 11 October
6 December | 15 November

[FR Doc. 06-6800 Filed 8-8-06; 8:45am]

BILLING CODE 6330-01-M